DEPARTMENT OF COMMERCE

National Oceanic and Atmospheric Administration

Extension of Request for Public Comment on a Draft Standard Ocean Mapping Protocol

AGENCY: Office of Coast Survey, National Ocean Service, National Oceanic and Atmospheric Administration (NOAA), Department of Commerce.

ACTION: Extension of deadline for public comments.

SUMMARY: On February 24, 2023, the National Ocean Mapping, Exploration, and Characterization (NOMEC) Council and the Interagency Working Group on Ocean and Coastal Mapping (IWG-OCM) submitted a request for public comment on the IWG-OCM's draft Standard Ocean Mapping Protocol (SOMP) in the Federal Register. This notice extends the deadline for comment from June 2, 2023, to July 28, 2023. All information in the original Federal Register notice remains accurate but for the deadline extension to July 28, 2023.

DATES: Comments must be received via email by 5 p.m. ET on July 28, 2023 at the email address listed in the ADDRESSES section below.

ADDRESSES:

A copy of the draft SOMP may be downloaded or viewed at: https://iocm.noaa.gov/standards/Standard_Ocean_Mapping_Protocol_draft_Feb2023.pdf.

A copy of the National Strategy may be downloaded or viewed at: https://iocm.noaa.gov/about/documents/strategic-plans/20200611-FINAL-STRATEGY-NOMEC-Sec.-2.pdf.

A copy of the National Strategy Implementation Plan may be downloaded or viewed at: https://iocm.noaa.gov/about/documents/strategic-plans/210107-FINALNOMECImplementationPlan-Clean.pdf.

Comments can be submitted by email to iwgocm.staff@noaa.gov by 5 p.m. ET on July 28, 2023.

Instructions: Response to this Federal Register notice is voluntary. Please include “Public Comment on Draft SOMP” in the subject line of the message. If applicable, clearly indicate the section and page number of the draft SOMP to which submitted comments pertain. All submissions must be in English. Email attachments will be accepted in plain text, Microsoft Word, or Adobe PDF formats only. Each individual or institution is requested to submit only one response. Please note that the U.S. Government will not pay for response preparation, or for the use of any information contained in the response.

FOR FURTHER INFORMATION CONTACT: Requests for additional information should be directed to Paul Turner, NOAA Integrated Ocean and Coastal Mapping, at iwgocm.staff@noaa.gov, (240) 429-0293.

SUPPLEMENTARY INFORMATION: Pursuant to Objective 2.1 of the National Strategy for Ocean Mapping, Exploring, and Characterizing the United States Exclusive Economic Zone, this SOMP was drafted to encourage consistency in data acquisition, stewardship and data management for seafloor mapping. The draft SOMP is organized into the following seven chapters:

Data Management, Bathymetry, Seabed and Lakebed Backscatter, Water Column Sonar, Side Scan Sonar, Sub-bottom, and Magnetometer. Public comments to improve the draft SOMP are welcome on one, a few, or all sections. Questions that might be considered while reviewing the draft SOMP include:

• Are the SOMP chapters comprehensive and explanatory?

• Is the SOMP understandable?

• As a protocol, will it be helpful to your organization, sector, or interest group?

• How do you anticipate your organization or sector will participate in SOMP implementation?

• What specific improvements to the SOMP would be of value to your organization/sector?

• What is missing in the SOMP that would facilitate use if added?

• Are there authoritative sources for the SOMP chapters that are missing or should be considered?

Authority: 33 U.S.C. 883e.

RDML Benjamin K. Evans,
Director, Office of Coast Survey, National Ocean Service, National Oceanic and Atmospheric Administration.

[FR Doc. 2023-12230 Filed 6-7-23; 8:45 am]

BILLING CODE 3510-JE-P